DEPARTMENT OF TRANSPORTATION

Federal Aviation Administration

Commercial Space Transportation Advisory Committee—Open Meeting

AGENCY: Federal Aviation Administration (FAA), DOT.

ACTION: Notice of Commercial Space Transportation Advisory Committee open meeting.

SUMMARY: Pursuant to section 10(a)(2) of the Federal Advisory Committee Act (Pub. L. 92-463, 5 U.S.C. App. 2), notice is hereby given of a meeting of the Commercial Space Transportation Advisory Committee (COMSTAC). The meeting will take place on Thursday, May 20, 2004, from 8 a.m. to 5 p.m. at the Federal Aviation Administration Headquarters Building, 800 Independence Avenue, SW., Washington, DC, in the Bessie Coleman Conference Center, 2nd Floor. This will be the 39th meeting of the COMSTAC.

The 2004 Commercial Space Transportation Market Forecasts, which includes the 2004 COMSTAC Commercial Geosynchronous Orbit Launch Demand Model and the 2004 Commercial Space Transportation Forecast for Non-Geosynchronous Orbits will be briefed and distributed at the May meeting. There will also be a briefing on the recent report entitled The Economic Impact of Commercial Space Transportation on the U.S. Economy, 2004 and an activities report from FAA's Associate Administrator for Commercial Space Transportation.

Meetings of the COMSTAC Working Groups (Technology and Innovation, Reusable Launch Vehicle, Risk Management, and Launch Operations and Support) will be held on Wednesday, May 19, 2004. For specific information concerning the times and locations of these meetings, contact the Contact Person listed below.

Individuals who plan to attend and need special assistance, such as sign language interpretation or other reasonable accommodations, should inform the Contact Person listed below in advance of the meeting.

FOR FURTHER INFORMATION CONTACT: Brenda Parker (AST-200), Office of the Associate Administrator for Commercial Space Transportation (AST), 800 Independence Avenue, SW., Room 331, Washington, DC 20591, telephone (202) 385-4713; e-mail brenda.parker@faa.dot.gov.

Issued in Washington, DC, April 19, 2004.
Patricia G. Smith,
Associate Administrator for Commercial Space Transportation.

[FR Doc. 04-9625 Filed 4-27-04; 8:45 am]

BILLING CODE 4910-13-P